DEPARTMENT OF ENERGY

Federal Energy Regulatory Commission Combined Notice of Filings #1

Take notice that the Commission received the following electric rate filings:

Docket Numbers: ER11-4281-000.

Applicants: ISO New England Inc.

Description: ISO New England Inc. Second Quarter 2011 Capital Budget Report.

Filed Date: 08/11/2011.

Accession Number: 20110811-5023.

Comment Date: 5 p.m. Eastern Time on Thursday, September 01, 2011.

Docket Numbers: ER11-4282-000.

Applicants: Midwest Independent Transmission System Operator, Inc.

Description: Midwest Independent Transmission System Operator, Inc. submits tariff filing per 35.13(a)(2)(iii: G298 Amended GIA to be effective 8/12/2011.

Filed Date: 08/11/2011.

Accession Number: 20110811-5038.

Comment Date: 5 p.m. Eastern Time on Thursday, September 01, 2011.

Docket Numbers: ER11-4283-000.

Applicants: Alabama Power Company.

Description: Alabama Power Company submits tariff filing per 35.13(a)(2)(iii: Attachment S (APCO and SEGCO) Filing to be effective 1/1/2012.

Filed Date: 08/11/2011.

Accession Number: 20110811-5113.

Comment Date: 5 p.m. Eastern Time on Thursday, September 01, 2011.

Docket Numbers: ER11-4284-000.

Applicants: Georgia Power Company.

Description: Georgia Power Company submits tariff filing per 35.13(a)(2)(iii: FP&L Scherer Unit 4 TSA Amendment Filing (SEGCO Depreciation Rate Update) to be effective 1/1/2012.

Filed Date: 08/11/2011.

Accession Number: 20110811-5114.

Comment Date: 5 p.m. Eastern Time on Thursday, September 01, 2011.

Docket Numbers: ER11-4285-000.

Applicants: Georgia Power Company.

Description: Georgia Power Company submits tariff filing per 35.13(a)(2)(iii: JEA Scherer Unit 4 TSA Amendment Filing (SEGCO Depreciation Rate Update) to be effective 1/1/2012.

Filed Date: 08/11/2011.

Accession Number: 20110811-5115.

Comment Date: 5 p.m. Eastern Time on Thursday, September 01, 2011.

Docket Numbers: ER11-4286-000.

Applicants: Arizona Public Service Company.

Description: Arizona Public Service Company submits tariff filing per 35.13(a)(2)(iii: Modifications to APS Service Agreement Nos. 51741 and 308 to be effective 7/8/2011.

Filed Date: 08/12/2011.

Accession Number: 20110812-5000.

Comment Date: 5 p.m. Eastern Time on Friday, September 02, 2011.

Docket Numbers: ER11-4287-000

Applicants: Michigan Electric Transmission Company, LLC

Description: Michigan Electric Transmission Company, LLC submits tariff filing per 35.13(a)(2)(iii: Filing of Facilities Upgrade Agreement to be effective 10/12/2011.

Filed Date: 08/12/2011

Accession Number: 20110812-5034

Comment Date: 5 p.m. Eastern Time on Friday, September 02, 2011

Docket Numbers: ER11-4288-000.

Applicants: ITC Midwest LLC.

Description: ITC Midwest LLC submits tariff filing per 35.13(a)(2)(iii: Filing of Joint Pole Use Agreements to be effective 10/12/2011.

Filed Date: 08/12/2011.

Accession Number: 20110812-5037.

Comment Date: 5 p.m. Eastern Time on Friday, September 02, 2011.

Docket Numbers: ER11-4289-000.

Applicants: Public Service Company of New Mexico.

Description: Public Service Company of New Mexico submits tariff filing per 35: OATT Service Agreement 172 (Baseline) to be effective 8/12/2011.

Filed Date: 08/12/2011.

Accession Number: 20110812-5083.

Comment Date: 5 p.m. Eastern Time on Friday, September 02, 2011.

Docket Numbers: ER11-4290-000.

Applicants: Milford Power Limited Partnership.

Description: Milford Power Limited Partnership submits tariff filing per 35: Revisions to Market-Based Rate Tariff of Milford Power Limited Partnership to be effective 8/13/2011.

Filed Date: 08/12/2011.

Accession Number: 20110812-5117.

Comment Date: 5 p.m. Eastern Time on Friday, September 02, 2011.

Docket Numbers: ER11-4291-000.

Applicants: Kentucky Utilities Company.

Description: Kentucky Utilities Company submits tariff filing per 35.13(a)(2)(iii: 08_12_11 KU ARAs Errata to be effective 8/15/2011.

Filed Date: 08/12/2011.

Accession Number: 20110812-5119.

Comment Date: 5 p.m. Eastern Time on Friday, September 02, 2011.

Docket Numbers: ER11-4292-000.

Applicants: ANP Funding I, LLC.

Description: ANP Funding I, LLC submits tariff filing per 35: Revisions to Market-Based Rate Tariff of ANP Funding I, LLC to be effective 8/13/2011.

Filed Date: 08/12/2011.

Accession Number: 20110812-5120.

Comment Date: 5 p.m. Eastern Time on Friday, September 02, 2011.

Docket Numbers: ER11-4293-000.

Applicants: ANP Blackstone Energy Company, LLC.

Description: ANP Blackstone Energy Company, LLC submits tariff filing per 35: Revisions to Market-Based Rate Tariff of ANP Blackstone Energy Company, LLC to be effective 8/13/2011.

Filed Date: 08/12/2011.

Accession Number: 20110812-5121.

Comment Date: 5 p.m. Eastern Time on Friday, September 02, 2011.

Docket Numbers: ER11-4294-000.

Applicants: NV Energy, Inc.

Description: NV Energy, Inc. submits tariff filing per 35.13(a)(2)(iii: Service Agreement No. 10-00979 Amended and Restated LGIA to be effective 7/22/2011.

Filed Date: 08/12/2011.

Accession Number: 20110812-5135.

Comment Date: 5 p.m. Eastern Time on Friday, September 02, 2011.

Docket Numbers: ER11-4295-000.

Applicants: ANP Bellingham Energy Company, LLC.

Description: ANP Bellingham Energy Company, LLC submits tariff filing per 35: Revisions to Market-Based Rate Tariff of ANP Bellingham Energy Company, LLC to be effective 8/13/2011.

Filed Date: 08/12/2011.

Accession Number: 20110812-5136.

Comment Date: 5 p.m. Eastern Time on Friday, September 02, 2011.

Docket Numbers: ER11-4296-000.

Applicants: ITC Midwest LLC.

Description: ITC Midwest LLC submits tariff filing per 35.13(a)(2)(iii: Filing of Electric Service Agreement to be effective 10/12/2011.

Filed Date: 08/12/2011.

Accession Number: 20110812-5143.

Comment Date: 5 p.m. Eastern Time on Friday, September 02, 2011.

Docket Numbers: ER11-4297-000.

Applicants: Armstrong Energy Limited Partnership, L.L.L.P.

Description: Armstrong Energy Limited Partnership, L.L.L.P. submits tariff filing per 35: Revisions to Market-Based Rate Tariff of Armstrong Energy Limited Partnership to be effective 8/13/2011.

Filed Date: 08/12/2011.

Accession Number: 20110812-5149.

Comment Date: 5 p.m. Eastern Time on Friday, September 02, 2011.

Docket Numbers: ER11-4298-000.

Applicants: ITC Midwest LLC.

Description: ITC Midwest LLC submits tariff filing per 35.13(a)(2)(iii: Filing of Operation and Maintenance Agreement to be effective 10/12/2011.

Filed Date: 08/12/2011.

Accession Number: 20110812-5151.

Comment Date: 5 p.m. Eastern Time on Friday, September 02, 2011.

Docket Numbers: ER11-4299-000.

Applicants: Pleasants Energy, LLC.

Description: Pleasants Energy, LLC submits tariff filing per 35: Revisions to Market-Based Rate Tariff of Pleasants Energy, LLC to be effective 8/13/2011.

Filed Date: 08/12/2011.

Accession Number: 20110812-5152.

Comment Date: 5 p.m. Eastern Time on Friday, September 02, 2011.

Docket Numbers: ER11-4300-000.

Applicants: Calumet Energy Team, LLC.

Description: Calumet Energy Team, LLC submits tariff filing per 35: Revisions to Market-Based Rate Tariff of Calumet Energy Team, LLC to be effective 8/13/2011.

Filed Date: 08/12/2011.

Accession Number: 20110812-5153.

Comment Date: 5 p.m. Eastern Time on Friday, September 02, 2011.

Docket Numbers: ER11-4301-000.

Applicants: ITC Midwest LLC.

Description: ITC Midwest LLC submits tariff filing per 35.13(a)(2)(iii: Filing of Facilities Agreement to be effective 10/12/2011.

Filed Date: 08/12/2011.

Accession Number: 20110812-5154.

Comment Date: 5 p.m. Eastern Time on Friday, September 02, 2011.

Docket Numbers: ER11-4302-000.

Applicants: ITC Midwest LLC.

Description: ITC Midwest LLC submits tariff filing per 35.13(a)(2)(iii: Filing of Interconnection Agreement to be effective 10/12/2011.

Filed Date: 08/12/2011.

Accession Number: 20110812-5155.

Comment Date: 5 p.m. Eastern Time on Friday, September 02, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2011.
Kimberly D. Bose,
Secretary.

[FR Doc. 2011-21455 Filed 8-22-11; 8:45 am]

BILLING CODE 6717-01-P